NATIONAL FOUNDATION ON THE ARTS AND THE HUMANITIES

National Endowment for the Arts; Submission for OMB Review: Comment Request

The National Endowment for the Arts (NEA) has submitted the following public information collection request (ICR) to the Office of Management and Budget (OMB) for review and approval in accordance with the Paperwork Reduction Act of 1995 [Pub. L. 104-13, 44 U.S.C. Chapter 35]. Copies of this ICR, with applicable supporting documentation, may be obtained by contacting Sarah Cunningham via telephone at 202-682-5515 (this is not a toll-free number) or e-mail at cunninghams@arts.gov. Individuals who use a telecommunications device for the deaf (TTY/TDD) may call 202-682-5496 between 10 a.m. and 4 p.m. Eastern time, Monday through Friday.

Comments should be sent to the Office of Information and Regulatory Affairs, Attn: OMB Desk Officer for the National Endowment for the Arts, Office of Management and Budget, Room 10235, Washington, DC 20503, 202-395-7316, within 30 days from the date of this publication in the Federal Register.

The Office of Management and Budget (OMB) is particularly interested in comments which:

• Evaluate whether the proposed collection of information is necessary for the proper performance of the functions of the agency, including whether the information will have practical utility;

• Evaluate the accuracy of the agency's estimate of the burden of the proposed collection of information including the validity of the methodology and assumptions used;

• Enhance the quality, utility, and clarity of the information to be collected; and

• Minimize the burden of the collection of information on those who are to respond, including through the use of appropriate automated, electronic, mechanical, or other technological collection techniques, or other forms of information technology, e.g., permitting electronic submissions of responses.

Agency: National Endowment for the Arts.

Title: Research Study: Improving the Assessment of Student Learning in the Arts.

OMB Number: New.

Frequency: One time.

Affected Public: State arts agencies, County arts agencies, arts organizations, cultural organizations, institutes of higher learning with arts programs, school districts, public schools, arts education evaluators.

Estimated Number of Respondents: 130,244.

Estimated Time per Respondent: 30 minutes.

Total Burden Hours: 65,122.

Total Annualized Capital/Startup Costs: 0.

Total Annual Costs (Operating/Maintaining Systems or Purchasing Services): $40,000.

Description: The National Endowment for the Arts plans to conduct a survey to collect information about assessment of student learning in the arts. The survey is part of a research project in cooperation with WestEd, designed to collect and analyze data on current practices and trends in the assessment of K-12 student arts learning and to identify models that might be most effective in various learning environments. The activities include collecting uniform data from State arts agencies, County arts agencies, local arts organizations, institutes of higher education with arts programs, districts and schools that provide arts instruction to K-12 students, and people that have evaluated arts education programs.

ADDRESSES: Sarah Cunningham, National Endowment for the Arts, 1100 Pennsylvania Avenue, NW., Room 703, Washington, DC 20506-0001, telephone (202) 682-5515 (this is not a toll-free number), fax 202/682-5002.

Kathryn Plowitz-Worden,
Panel Coordinator, National Endowment for the Arts.

[FR Doc. E9-6011 Filed 3-18-09; 8:45 am]

BILLING CODE 7537-01-P